COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: February 11, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed addition, the entities of the Federal Government identified in this notice will be required to procure the service(s) listed below from nonprofit agencies employing persons who are blind or have other severe disabilities.

In accordance with 41 CFR 51-5.3(b), the Committee intends to add this services requirement to the Procurement List as a mandatory purchase only for the contracting activity listed at the location shown, with the proposed qualified nonprofit agency as the authorized source of supply. Prior to adding the service to the Procurement List, the Committee will consider other pertinent information, including information from Government personnel and relevant comments from interested parties regarding the Committee's intent to geographically limit this services requirement.

The following service(s) are proposed for addition to the Procurement List for delivery by the nonprofit agencies listed:

Service(s)

Service Type: Custodial & Grounds Maintenance

Mandatory for: Defense Contract Management Agency, Hancock Field Air National Guard Base, Building 613, Syracuse, NY

Designated Source of Supply: Oswego Industries, Inc., Fulton, NY

Contracting Activity: DEFENSE CONTRACT MANAGEMENT AGENCY (DCMA), DEFENSE CONTRACT MANAGMENT OFFICE

Deletions

The following product(s) and service(s) are proposed for deletion from the Procurement List:

Product(s)

NSN(s)—Product Name(s):

7530-01-516-7577—Pad, Writing Paper, Glue Bound Top, Legal Rule, White, 8½″ x 13¼″

7530-01-516-7572—Pad, Writing Paper, Glue Bound Top, Legal Rule, Canary, 5″ x 8″

Designated Source of Supply: Blind Industries & Services of Maryland, Baltimore, MD

Contracting Activity: GSA/FAS ADMIN SVCS ACQUISITION BR(2, NEW YORK, NY

NSN(s)—Product Name(s):

3030-01-375-8087—Belt, Micro-V, V-ribbed, 4 Ribs, EPDM Rubber, 35.5″ long

3030-01-466-9476—Belt, V-shaped, Micro, EPDM Rubber, 8 Ribs, 98.07″

Designated Source of Supply: Northeastern Association of the Blind at Albany, Inc., Albany, NY

Contracting Activity: DLA LAND AND MARITIME, COLUMBUS, OH

NSN(s)—Product Name(s):

8445-01-436-2695—Belt, Trousers, Women's, Type XII, Black, Size 45

Designated Source of Supply: Travis Association for the Blind, Austin, TX

Contracting Activity: DLA TROOP SUPPORT, PHILADELPHIA, PA

NSN(s)—Product Name(s):

8140-00-NSH-0014—Tube, Cardboard, Grenade, 155mm Projectile

Designated Source of Supply: SVRC Industries, Inc., Saginaw, MI

Contracting Activity: W4MM USA JOINT MUNITIONS CMD, ROCK ISLAND, IL

Service(s)

Service Type: Document Destruction

Mandatory for: VA Medical Clinic: 25 North Spruce, NULL, Colorado Springs, CO

Designated Source of Supply: Bayaud Enterprises, Inc., Denver, CO

Contracting Activity: VETERANS AFFAIRS, DEPARTMENT OF, 259-NETWORK CONTRACT OFFICE 19

Service Type: Document Destruction

Mandatory for: Department of Veterans Affairs, Network Contracting Office, NCO 19, Glendale, CO

Designated Source of Supply: Bayaud Enterprises, Inc., Denver, CO

Contracting Activity: VETERANS AFFAIRS, DEPARTMENT OF, 259-NETWORK CONTRACT OFFICE 19

Michael R. Jurkowski,
Acting Director, Business Operations.

[FR Doc. 2024-00545 Filed 1-11-24; 8:45 am]

BILLING CODE 6353-01-P